ENVIRONMENTAL PROTECTION AGENCY

[FRL-9179-2]

Science Advisory Board Staff Office; Notification of a Public Teleconference of the Environmental Engineering Committee

AGENCY: Environmental Protection Agency (EPA).

ACTION: Notice.

SUMMARY: The EPA Science Advisory Board (SAB) Staff Office announces a public teleconference of the SAB Environmental Engineering Committee (EEC) to receive briefings regarding EPA's research activities associated with innovation and use of lifecycle analysis in technology development, carbon sequestration, and sustainability.

DATES: The EEC will conduct a public teleconference on August 16, 2010. The teleconference will begin at 1 p.m. and end by 4:30 p.m. (Eastern Daylight Time).

ADDRESSES: The teleconference will be conducted by telephone only.

FOR FURTHER INFORMATION CONTACT: Any member of the public wishing to obtain general information concerning the public teleconference may contact Mr. Edward Hanlon, Designated Federal Officer (DFO), via telephone at (202) 564-2134 or e-mail at hanlon.edward@epa.gov. General information about the EEC can be found on the EPA SAB Web site at http://www.epa.gov/sab.

SUPPLEMENTARY INFORMATION: Pursuant to the Federal Advisory Committee Act (FACA), 5 U.S.C., App. 2, notice is hereby given that the SAB Environmental Engineering Committee (EEC) will hold a public teleconference to receive briefings regarding the current status of EPA's research activities associated with innovation and use of lifecycle analysis in technology development, carbon sequestration, and sustainability. The EEC was established to provide independent advice to the EPA Administrator, through the chartered SAB, on risk management technologies to control and prevent pollution. The EEC is a Federal Advisory Subcommittee under FACA. The EEC will provide advice through the chartered SAB and will comply with the provisions of FACA and all appropriate SAB Staff Office procedural policies.

Background: EPA has a goal to develop and apply environmental technologies that are used to support environmental protection in a manner that increases efficiency. EPA is considering how to promote innovation within EPA and in the public and private sector so that technologies are more efficient. EPA is also considering how to bring lifecycle analysis (LCA) into the EPA's practices and procedures in support of EPA's efforts to produce, generate and develop environmental technologies. EPA is considering how to potentially apply LCA to achieve these objectives and goals. The EEC will receive briefings regarding the current status of EPA's research activities associated with innovation and use of lifecycle analysis in technology development.

Also, EPA is conducting research to evaluate the technical aspects of carbon dioxide geologic sequestration. EPA released guidance for pilot geologic sequestration projects in March, 2007. This guidance only addresses experimental pilot projects anticipated over the next several years. The EEC will receive briefings regarding the current status of EPA's research activities associated with carbon sequestration.

In addition, in 2007, the EEC through the chartered SAB provided advice on EPA's Draft Sustainability Research Strategy and multi-year research plan developed by EPA's Office of Research and Development (ORD). The strategy proposed a scientific framework for a more systematic and holistic approach to environmental protection that takes into consideration the complex nature of environmental issues and the welfare of future generations, and the multi-year research plan described ORD's research to meet the short-term and long-term goals of the Research Strategy. The EEC will receive briefings regarding the current status of EPA's research activities associated with sustainability. SAB's June 2007 Advisory on the Office of Research and Development's (ORD) Sustainability Research Strategy and the Science and Technology for Sustainability Multi-year Plan is available on the SAB Web site at http://yosemite.epa.gov/sab/sabproduct.nsf/02ad90b136fc21ef85256eba00436459/883382937a4656cc85256fa8004e14a2!OpenDocument.

Technical Contacts: The EPA technical contact for EPA's research activities associated with innovation and use of lifecycle analysis in technology development is Ms. Minerva Rojo at (202) 564-7356 or rojo.minerva@epa.gov. The ORD technical contact for carbon sequestration research is Dr. David Jewett at (580) 436-8560 or jewett.david@epa.gov. The EPA Office of Water technical contact for carbon sequestration research is Dr. Ann Codrington at (202) 564-4688 or codrington.ann@epa.gov. The ORD technical contact for sustainability is Dr. Alan Hecht at (202) 564-4772 or hecht.alan@epa.gov.

Availability of Meeting Materials: The meeting materials, including the review materials and meeting agenda for the August 16, 2010 teleconference, will be posted to the SAB Web site at http://www.epa.gov/sab prior to the meeting.

Procedures for Providing Public Input: Interested members of the public may submit relevant written or oral information for the EEC to consider on the topics of this advisory activity. Oral Statements: In general, individuals or groups requesting an oral presentation at a teleconference meeting will be limited to three minutes per speaker. Interested parties should contact Mr. Hanlon at the contact information provided above by August 9, 2010, to be placed on the public speaker list for the August 16, 2010 teleconference call. Written Statements: Written statements should be received in the SAB Staff Office by August 9, 2010, so that the information can be made available to the EEC for their consideration prior to the meeting. Written statements should be supplied to Mr. Hanlon in the following formats: One hard copy with original signature and one electronic copy via e-mail (acceptable file format: Adobe Acrobat PDF, MS Word, WordPerfect, MS PowerPoint, or Rich Text files). Submitters are asked to provide electronic versions of each document submitted with and without signatures, because the SAB Staff Office does not publish documents with signatures on its Web sites.

Accessibility: For information on access or services for individuals with disabilities, please contact Mr. Hanlon at (202) 564-2134 or e-mail at hanlon.edward@epa.gov, preferably at least ten (10) days prior to the meeting, to give EPA as much time as possible to process your request.

Dated: July 16, 2010.
Anthony F. Maciorowski,
Deputy Director, EPA Science Advisory Board Staff Office.

[FR Doc. 2010-18101 Filed 7-22-10; 8:45 am]

BILLING CODE 6560-50-P